DEPARTMENT OF HEALTH AND HUMAN SERVICES

Administration for Children and Families

Field Initiated Child Care Research Projects

AGENCY: Administration for Children and Families (ACF), Administration on Children, Youth, and Families (ACYF), Child Care Bureau (CCB).

Funding Opportunity Title: Field Initiated Child Care Research Projects.

Announcement Type: Competitive Grant-Initial.

Funding Opportunity Number: HHS-2004-ACF-ACYF-YE-0020.

CFDA Number: 93.575.

DATES: Due Date for Applications: The due date for receipt of applications is July 26, 2004.

Due Date for Letters of Intent: If you intend to submit an application, please e-mail the ACYF Operations Center and include the following information: the number and title of this announcement, your organization's name and address, and your contact person's name, title, phone number, fax number, and e-mail address. This notice is not required but is strongly encouraged. The information will be used to determine the number of expert reviewers needed to evaluate applications and to update the mailing list for future program announcements.

I. Funding Opportunity Description

1. Child Care Bureau

Since its establishment in 1995, the Child Care Bureau (CCB) has been dedicated to enhancing the quality, affordability, and supply of child care available for all families. The Child Care Bureau administers the Child Care and Development Fund (CCDF), a $4.8 billion child care program that includes funding for child care subsidies and activities to improve child care quality and availability. Combined with related State and Federal funding, CCDF provides more than $11 billion a year to States, territories, and tribes. Most of these funds are used to assist low-income, working families in paying for child care.

The Bureau works closely with ACF Regions, States, territories, and tribes to facilitate, oversee, and document the implementation of policies and programs that support State, local, and private sector administration of child care services and systems. In addition, the Bureau collaborates extensively with other offices throughout the Federal government to promote integrated approaches, family-focused services, and coordinated child care delivery systems. In all of these activities, the Bureau strives to support children's healthy growth and development, family self-sufficiency, parental choice and involvement, and linkage of child care with other community services.

2. Child Care Bureau's Research Agenda

Since 2000, Congress has appropriated approximately $10 million per year to be used for child care research and evaluation. The Child Care Bureau's research agenda supports activities likely to help decision makers in crafting effective child care policies and practices that promote positive outcomes for children and families. It is also intended to increase the capacity for child care research at the national, State, and local levels and to promote better linkages among research, policy, and practice.

The Bureau's capacity to further child care-related research is enhanced by the Child Care Policy Research Consortium, which is an alliance of research projects sponsored by the CCB. The consortium is comprised of researchers and their partners in States, local communities and other organizations who join in linking research, policy, and practice. The research projects of consortium members cover a broad range of issues. For example, some projects describe State and local child care populations, services, and programs, while others focus on child care subsidy policies and market dynamics. In addition, some projects examine issues that deal with the professional development and training of child care providers. The consortium meets annually in Washington, DC.

In order to synthesize the broad array of child care information being generated, the Bureau has created the Child Care and Early Education Research Collaboration and Archive (CCEERCA), which serves as the Child Care Bureau's national research knowledge management system for the child care field. The CCEERCA consists of an interactive Web site, an archive of data sets and reports, and a technical assistance support system to assist researchers and facilitate collaboration.

3. Purpose and Goals

The purpose of these grants is to support researchers in investigating child care issues that are consistent with the Child Care Bureau's research agenda and to improve the overall quality of child care research. They are funded under the authority of the Child Care and Development Block Grant Act of 1990, as amended.

The goals of this program area are as follows:

To address issues of current relevance to decision makers at the local, State, and national levels. Research and evaluation are critical to understanding child care issues and their implications for children and families. In fiscal year 2004 (FY 2004), the Bureau is particularly concerned with outcomes that relate to alternative child care subsidy policies and practices, investments in child care quality including provider training and professional development, the school readiness of young children cared for in a variety of care settings, and coordination across child care and other programs that serve children and families.

To increase the capacity for child care research at the national, State, and local levels. Once completed and released, studies funded through this announcement must be prepared and archived according to the specifications supplied by the Child Care and Early Education Research Collaboration and Archive. These public-use data files will be the property of the Federal government and will remain in the public domain for secondary analysis by other researchers.

To encourage the active communication, networking, and collaboration among prominent child care researchers, and policy makers. In order to facilitate networking with policy makers, researchers are required to participate in the Child Care Bureau's Annual Meeting of the Child Care Policy Research Consortium and invited to attend the State Administrators' Meeting.

4. Fiscal Year 2004 Field Initiated Child Care Research Priorities

In FY 2004, the Child Care Bureau is seeking to fund Field Initiated Child Care Research Projects that address questions that are highly relevant to the issues faced by Federal, State, and local community policy makers. These include: The effects of alternative child care subsidy policies and practices; the relative effectiveness of child care quality investments; issues and outcomes related to the professional development and training of caregivers; the school readiness of young children in a range of care settings; and issues and approaches in coordinating between child care and other services for children and families. The following describes each of these areas in detail and provides examples of research questions under each area.

A. Child Care Subsidy Policies. Under the Child Care and Development Fund, States have the flexibility to establish child care policies and practices that respond to State and local needs. Existing research demonstrates that significant variations exist across jurisdictions. Relatively little is known about how these variations influence which families and children are being served, the types and amounts of child care being used, continuity of care for children, and employment and school readiness outcomes. For example:

• What family and child outcomes are associated with receipt of subsidies? How do outcomes differ for different population groups and types of care?

• How do child care policies and administrative practices affect the child care decisions parents make, including the selection of faith-based providers?

• How do alternatives to on-site application and eligibility re-determination processes, and the frequency of these activities, relate to characteristics of families served, the duration of arrangements, continuity of care, and outcomes for families and children?

• How do alternative approaches to parental co-payments influence the number of families that can be served, the types of care parents use, the affordability of care, continuity of care, and the willingness of providers to serve subsidized families?

• How well do market rate surveys assess the price of care in various types of communities? What methods can be used to validate the findings from market rate surveys?

• What are the effects of child care subsidies on the larger child care market (e.g., does an infusion of public funding result in higher community child care prices or is there displacement between subsidized and non-subsidized children)?

• How do child care subsidy policies, financing strategies, and delivery systems affect the role of child care in community economic development?

B. Quality Investments. In FY 02, States spent 11 percent of the funds they received through the Child Care and Development Fund on activities to improve child care quality. The Child Care Bureau seeks projects that will provide sound information about the cost-effectiveness of alternative investments in improving child care quality. For example:

• Does giving informal caregivers, such as relatives, friends and neighbors, access to USDA adult and child nutrition programs result in improved child care quality? Do partnerships among child care and nutrition programs result in an effective system for the delivery of training for informal caregivers? How does participation in other types of support relate to the quality of care provided by this group of caregivers?

• What proportion of child care providers take advantage of State and community systems of tiered reimbursement? Does tiered reimbursement result in increased participation in accreditation, certification, or other mechanisms through which providers can demonstrate that they offer higher quality care? How do variations across systems of tiered reimbursement, including incentive amounts, influence provider participation? Are there differences in participation in tiered reimbursement and responses to licensing incentives among types of providers (including faith-based organizations)? Is it possible to demonstrate improvements in the quality of care? Do such systems influence the child care choices parents make?

• Do strategies such as putting licensing information on the web or monitoring child care facilities based on risk factors improve the health, safety and quality of child care facilities? Do such strategies result in better informed consumers?

C. Professional Development and Training. In connection with the administration's early learning initiative, Good Start, Grow Smart, the Child Care Bureau has been working with States on the development of voluntary guidelines for early learning. States are being encouraged to link their professional development and provider training strategies to the outcomes they hope to achieve for children. In support of these efforts, the Bureau is interested in research projects that can provide greater insight into the effectiveness of alternative approaches to professional development and training in improving the quality of care and outcomes for children across the range of child care settings. For example:

• What characteristics of caregivers are associated with choosing child care as a long-term profession and staying in the field?

• What levels of compensation and benefits are necessary to motivate caregivers to participate in quality improvement initiatives such as incentives for earning professional credentials or degrees and specialized training?

• Are States implementing policies (such as tax incentives, loan programs and training) that encourage individuals to work in child care or establish child care businesses? How effective are these strategies?

• What characteristics of professional development systems provide an effective vehicle for the pursuit of career paths in child care and early childhood education? How well do articulation agreements and systems of training approval and registry work for individual caregivers?

• Do professional development systems support the workforce in all sectors and levels of development including caregivers working in family child care and informal settings as well as center-based programs (including faith-based)?

• How effective are alternative training strategies such as distance learning, mentoring, and coaching in improving the skills of caregivers with limited education and access to the formal system?

D. School Readiness. Young children are spending increasing numbers of hours in child care and other early education settings. More needs to be known about how the school readiness of young children is influenced across types of child care as well as how school readiness can be promoted across settings. For example:

• How do school readiness outcomes differ among early childhood education settings? What are the characteristics of settings that make a difference in school readiness outcomes for children? How does this vary by racial, ethnic, or language differences among children?

• How do hours in child care and early education relate to child outcomes?

• Does subsidy receipt impact the probability that low-income children will be in settings that support school readiness?

• What factors promote children's early learning and school readiness in child care centers, family child care homes, and in informal arrangements among families, friends and neighbors?

E. Coordination. With growth in child care subsidies, Head Start, State pre-kindergarten programs, services for children with special needs, and a range of other programs targeted toward low-income families and children, it is critical that services be coordinated. This is necessary to maximize the resources that are available and to ensure that services make sense and are effective in supporting positive outcomes for families and children. Examples of research questions include:

• What are States and communities doing to coordinate across early childhood and school-age programs, including health, assistance for children with special needs, TANF, child care, Head Start, pre-kindergarten, and K-12 services with respect to service delivery and funding? How well do these strategies work?

• What are the barriers and facilitators to collaboration and integration across programs?

• What are the effects of universal pre-kindergarten programs on the larger child care market?

Applicants should propose sound research methodologies and analyses that are appropriate to the study. Projects may also involve secondary analyses of completed data sets. Within the maximum funding level available ($400,000), applicants are expected to develop a budget that is reasonable given the nature and scope of the proposed study. Projects may include multiple sites, propose linkages with other studies, or otherwise leverage resources and knowledge.

Applicants are encouraged to form research partnerships if the result will be a more comprehensive, policy-relevant, and rigorous study than could be accomplished by a single organization. Funding partnerships to enhance the scope or quality of research activities are also encouraged.

II. Award Information

Funding Instrument Type: Grant.

Category of Funding Activity: ISS Income Security and Social Services.

Anticipated Total Program Funding: $2 million in FY 2004.

Anticipated Number of Awards: Five to eight awards will be funded.

Ceiling on Amount of Individual Awards: $400,000 per budget period. Applications that exceed this ceiling will be considered non-responsive and will not be eligible for funding under this announcement.

Floor on Amount of Individual Awards: None.

Average Anticipated Award: $200,000-$400,000 per budget period.

Project Period for Awards: This announcement invites applications for project periods up to three years. Awards, on a competitive basis, will be for a one-year budget period, although project periods may be for three years. Applications for continuation of grants beyond the one-year budget period will be entertained in subsequent years on a non-competitive basis, subject to the availability of funds from future appropriations, satisfactory progress of the grantee, and a determination that continued funding is in the best interest of the government. Should additional funds be available in FY 2005 or 2006, ACF reserves the right to fund additional projects from among the applications received under this announcement.

III. Eligibility Information

1. Eligible Applicants

Universities and colleges, public agencies, non-profit organizations, for-profit organizations agreeing to waive their fees are eligible applicants, faith-based and community organizations are also eligible to apply.

Institutions serving minority populations, including but not limited to Tribally Controlled Land Grant Colleges and Universities (TCUs) and Historically Black Colleges and Universities (HBCUs), are also eligible applicants.

• TCUs are those institutions cited in section 532 of the Equity in Educational Land Grant Status Act of 1994 (7 U.S.C. 301 note), any other institution that qualifies for funding under the Tribally Controlled Community College Assistance Act of 1978 (25 U.S.C. 1801 et seq.), and Navajo Community College, authorized in the Navajo Community College Assistance Act of 1978, Pub. L. 95-471, title II (25 U.S.C. 640a note). Those TCUs that are not accredited are not eligible to apply under this announcement.

• HBCUs are defined in the amended version of the Higher Education Act of 1965, codified at 20 U.S.C. 1061(2), as institutions established prior to 1964 whose principle mission was, and is, the education of Black Americans, and must satisfy section 322 of the Higher Education Act of 1965, as amended. Institutions which meet the definition of “Part B institution” in section 322 of the Higher Education Act of 1965, as amended, 20 U.S.C. 1061(2), shall be eligible for assistance under this announcement.

Additional Information on Eligibility: Non-profit organizations applying for funding are required to submit proof of their non-profit status. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

2. Cost-Sharing or Matching

Grantees must provide at least 20 percent of the total approved cost of the project. The total approved cost of the project is the sum of the ACF share and the non-federal share. The non-federal share may be met by cash or in-kind contributions, although applicants are encouraged to meet their match requirements through cash contributions. For example, in order to meet the match requirements, a project with a total approved cost of $375,000, requesting $300,000 in ACF funds, must provide a non-federal share of at least $75,000 (20% of total approved project cost of $375,000). Grantees will be held accountable for commitments of non-federal resources even if over the amount of the required match. Failure to provide the amount will result in disallowance of Federal funds.

Applications that fail to include the required amount of cost-sharing will be considered non-responsive and will not be eligible for funding under this announcement.

3. Other

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line at 1-866-705-5711 or you may request a number on-line at http://www.dnb.com.

Applications that fail to follow the required format described in Section IV.2 below will be considered non-responsive and will not be eligible for funding under this announcement.

Applications that exceed the funding ceiling will be considered non-responsive and will not be eligible for funding under this announcement.

Applications that fail to include the required amount of cost-sharing will be considered non-responsive and will not be eligible for funding under this announcement.

IV. Application and Submission Information

1. Address To Request Application Package

This full announcement can be obtained via the following link: http://www.acf.hhs.gov/programs/ccb.

If you are unable to download the complete announcement, requests for applications may be sent to: ACYF Operations Center, c/o The Dixon Group, Inc., Child Care Bureau, Field Initiated Child Care Research Grants, 118 Q Street, NE., Washington, DC 20002-2132, phone: 866-796-1591, e-mail: CCB@dixongroup.com.

2. Content and Format of Application Submission

Electronic Submission. You may submit your application to us in either electronic or paper format. To submit an application electronically, please use the http://www.Grants.gov apply site. If you use Grants.gov, you will be able to download a copy of the application package, complete it off-line, and then upload and submit the application via the Grants.gov site. You may not email an electronic copy of a grant application. Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgment from Grants.gov that contains a Grants.gov tracking number. The Administration for Children and Families will retrieve your application from Grants.gov and send you a second confirmation, which will include an ACF tracking number.

• We may request that you provide original signatures on forms at a later date.

• You may access the electronic application for this program on http://www.Grants.gov.

Format and Organization. An original and two copies of the application must be submitted. Applicants should limit their application to 100 pages, double-spaced, with standard one-inch margins and 12 point fonts. This page limit applies to both narrative text and supporting materials. In addition, applicants should number the pages of their application and include a table of contents.

Applicants are advised to include all required forms and materials and to organize these materials according to the format presented below:

a. Cover letter.

b. Required standard forms:

• Standard Application for Federal Assistance (forms 424 and 424A).

• Applicants requesting financial assistance for a non-construction project must sign and return Standard Form 424B, Assurances: Non-construction Programs, with their applications.

• Applicants must provide a Certification Regarding Lobbying. Prior to receiving an award in excess of $100,000, applicants shall furnish an executed copy of the lobbying certification. Applicants must sign and return the certification with their application.

• Applicants must make the appropriate certification of compliance with all Federal statues relation to nondiscrimination. By signing and submitting the application, applicants are providing the certification and need not mail back a certification form.

• Applicants must make the appropriate certification of their compliance with the requirements of the Pro-Children Act of 1994 as outlined in Certification Regarding Environment Tobacco Smoke.

c. Table of contents.

d. Project narrative statement.

e. Appendix:

Complete Contact Information for Principle Investigators;

Curriculum Vitae for Principle Investigators.

Content of Project Narrative Statement: The project narrative statement contains most of the information on which applications will be competitively reviewed. The project narrative should be carefully developed in accordance with the Bureau's research goals and agenda, the requirements listed in the Uniform Project Description and the evaluation criteria.

Omission of Salary Rate: Applicants have the option of omitting from the application copies (not the original) specific salary rates or amounts for individuals specified in the application budget.

Applications from Non-profit Organizations: Private, non-profit organizations are encouraged to submit with their applications the survey under “Grant Related Documents and Forms” titled “Survey for Private, Non-Profit Grant Applicants” at http://www.acf.hhs.gov/programs/ofs/forms.htm.

3. Submission Dates and Times

Notice of Intent to Submit Application: If you intend to submit an application, please e-mail the ACYF Operations Center and include the following information: the number and title of this announcement, your organization's name and address, and your contact person's name, title, phone number, fax number, and e-mail address. This notice is not required but is strongly encouraged. The information will be used to determine the number of expert reviewers needed to evaluate applications and to update the mailing list for future program announcements.

Mailing and Delivery Instructions. Applications may be sent through the U.S. Postal Service, delivered by private courier, or hand delivered to the ACYF Operations Center. Applications must be mailed or delivered to: ACYF Operations Center, The Dixon Group, Inc., Child Care Bureau, Field Initiated Child Care Research Program, 118 Q Street, NE., Washington, DC 20002-2132, phone: 866-796-1591, e-mail: CCB@dixongroup.com. Applications delivered by a private courier or by hand must be received no later than 4:30 p.m., eastern time (e.t.), on the closing date. ACYF cannot accept applications by fax or through other electronic media. Applicants will receive a confirmation postcard upon receipt of applications.

Closing Date: The closing date for receipt of applications is 4:30 p.m. eastern time (e.t.) on July 26, 2004. Mailed or handcarried applications received after 4:30 p.m. on the closing date will be classified as late.

Late Applications: Mailed applications will be considered as meeting the deadline if they are postmarked on or before the closing date and received by ACYF in time for the independent review. Applications hand carried by applicants, couriers, other representatives of the applicant, will be considered as meeting the deadline if they are received at the ACYF Operations Center on the closing date between the hours of 8 a.m. and 4:30 p.m., e.t., Monday through Friday (excluding Federal holidays). Applications that do not meet the criteria stated above will be considered late. The Administration for Children and Families (ACF) will notify each late applicant that his/her application will not be considered in the current competition.

Extension of Deadline: ACF may extend an application deadline for applicants affected by acts of God (such as floods and hurricanes), when there is widespread disruption of mail service, or for other disruption of services that affect the public at large (such as prolonged electrical blackout). Authority to waive or extend deadline requirements rests with the Chief Grants Management Officer.

The table below details when the materials need to be submitted and where these forms or formatting descriptions can be found.

What to submit | Required content | Required form or format | When to submit
Standard Application for Federal Assistance (forms SF 424, 424A, and 424B) | Per required form | May be found at http://acf.hhs.gov/programs/ofs/forms.htm | By application due date.
Certification regarding Lobbying and associated Disclosure of Lobbying Activities (SF LLL) | Per required form | May be found at http://acf.hhs.gov/programs/ofs/forms.htm | By application due date.
Environmental Tobacco Smoke Certification | Per required form | May be found at http://acf.hhs.gov/programs/ofs/forms.htm | By application due date.
Protection of Human Subjects | Per required form | May be found at http://acf.hhs.gov/programs/ofs/forms.htm | By application due date.
Proof of Non-Profit Status | See Section III.1 | May be found at http://acf.hhs.gov/programs/ofs/forms.htm | By application due date.
Project Narrative Statement | See Section IV.2 and Section V.1 and V.2 | Format described in Section V.1 and V.2 | By application due date.
Contact Information, Vita, Letter of Support, Transcript | See Section and IV.2 | Format described in Section IV.2 | By Application due date.

Additional Forms

Private, non-profit organizations are encouraged to submit with their applications the survey located under “Grant Related Documents and Forms” titled “Survey for Private, Non-Profit Grant Applicants” at http://www.acf.hhs.gov/programs/ofs/forms.htm.

What to submit | Required content | Required form or format | When to submit
Survey for Private, Non-Profit Grant Applicants | Per Required Form | http://www.acf.hhs.gov/programs/ofs/form.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

All States and territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington, Wyoming, and Palau have elected to participate in the Executive Order process and have established Single Points of Contact (SPOCs). Applicants from these twenty-six jurisdictions need take no action regarding E.O. 12372. Applicants for projects to be administered by federally-recognized Indian tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Washington, DC 20447.

5. Funding Restrictions

Grants awarded as a result of this competition are not transferable to another institution. No individual institution will be funded for more than one award unless applications from different institutions do not qualify for support.

6. Other Submission Requirements

Submission by Mail: Mailed applications shall be considered as meeting an announced deadline if they are received on or before the deadline time and date at the ACYF Operations Center, The Dixon Group, Inc., Child Care Bureau, Field Initiated Child Care Research Grants, 118 Q Street, NE., Washington, DC 20002-2132. Applicants are responsible for mailing applications well in advance, when using all mail services, to ensure that the applications are received on or before the deadline time and date.

Hand Delivery: Applications handcarried by applicants, applicant couriers, other representatives of the applicant, or by overnight/express mail couriers shall be considered as meeting an announced deadline if they are received on or before the deadline date, between the hours of 8 a.m. and 4:30 p.m. eastern time at the ACYF Operations Center, c/o The Dixon Group, Inc., 118 Q Street, NE., Washington, DC 20002-2132, between Monday and Friday (excluding Federal holidays). This address must appear on the envelope/package containing the application with the note “Attention Field Initiated Child Care Research Grants.” Applicants are cautioned that express/overnight courier services do not always deliver as agreed.

ACF cannot accommodate transmission of applications by fax.

V. Application Review Information

1. Criteria

Paperwork Reduction Act of 1995 (Pub. L. 104-13): Public reporting for this collection of information is estimated to average 15 hours for the Field Initiated Child Care Research Grants, including time for reviewing instructions, gathering and maintaining the data needed, and reviewing the collection of information.

The project description is approved under OMB Control No. 0970-0139.

An agency may not conduct or sponsor, and a person is not required to respond to, a collection of information unless it displays a currently valid OMB control number.

Instruction: ACF Uniform Project Description (UPD)

The following are instructions and guidelines on how to prepare the “Project Summary/Abstract” and “Full Project Description” sections of the application. The UPD was approved by the Office of Management and Budget (OMB) Control No. 0970-0139.

The Project Description Overview. The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions. ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix. Pages should be numbered and a table of contents should be included for easy reference.

Instructions for Preparing a Full Project Description

1. Project Summary Abstract

Provide a summary of the project description (a page or less) with reference to the funding request.

2. Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed.

In developing the project description, the applicant may volunteer or be requested to provide information on the total range of projects currently being conducted and supported (or to be initiated), some of which may be outside the scope of the program announcement.

3. Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project, along with a short description of the nature of their effort or contribution.

4. Additional Information

Following are requests for additional information that need to be included in the application:

a. Staff and Position Data

Provide a biographical sketch for each key person appointed and a job description for each vacant key position. A biographical sketch will also be required for new key staff as appointed.

b. Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

5. General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: First column, object class categories; second column, Federal budget; next column(s), non-Federal budget(s), and last column, total budget. The budget justification should be a narrative.

a. Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

b. Fringe Benefits

Description: Costs of employee fringe benefits unless treated as part of an approved indirect cost rate.

Justification: Provide a breakdown of the amounts and percentages that comprise fringe benefit costs such as health insurance, FICA, retirement insurance, taxes, etc.

c. Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

d. Equipment

Description: “Equipment” means an article of nonexpendable, tangible personal property having a useful life of more than one year and an acquisition cost which equals or exceeds the lesser of (a) the capitalization level established by the organization for the financial statement purposes, or (b) $5,000.

Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.

Justification: For each type of equipment requested, provide a description of the equipment, the cost per unit, the number of units, the total cost, and a plan for use on the project, as well as use or disposal of the equipment after the project ends. An applicant organization that uses its own definition for equipment should provide a copy of its policy or section of its policy which includes the equipment definition.

e. Supplies

Description: Costs of all tangible personal property other than that included under the Equipment category.

Justification: Specify general categories of supplies and their costs. Show computations and provide other information which supports the amount requested.

f. Other

Description: Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

g. Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

2. Evaluation Criteria

Eligible applications will be scored competitively against the evaluation criteria. These criteria will be used in conjunction with the other expectations and requirements set forth in this announcement to evaluate how well each proposal addresses the bureau's research agenda and the program goals.

Criterion 1: Approach—Research Design and Methodology (30 Point Maximum)

The extent to which the application provides a theoretical framework and a review of empirical evidence supporting the proposed project.

The extent to which the proposed research design (a) appropriately links research issues, questions, variables, data sources, samples, and analyses; (b) provides a logic model that illustrates the expected linkages; and (c) employs technically sound and appropriate approaches, design elements and procedures, and sampling techniques.

The extent to which the application provides a detailed analysis plan that shows how the measures and analyses relate to the proposed hypotheses or research questions and demonstrates their appropriateness for the questions under consideration.

The extent to which the proposed design (a) reflects sensitivity to technical, logistical, cultural, and ethical issues that may arise and (b) and includes realistic strategies for the resolution of difficulties;

The extent to which the researchers assure adequate protection of human subjects, confidentiality of data, and consent procedures, as appropriate;

The extent to which the research design (a) specifies the measures to be used and their psychometric properties; (b) describes how these measures have been used to address the proposed research questions; and (c) describes how these measures have been used with the low-income, diverse population to be studied.

Criterion 2: Objectives and Need for Assistance (25 Point Maximum)

The extent to which the application responds to the Child Care Bureau's priorities and proposes research likely to yield findings that will help decision makers in crafting effective child care policies and strategies.

Identifies the results and benefits of the project and describes how these will inform child care policies and services, improve practice, and advance understanding of the contexts that promote healthy development and well-being in families and children.

The extent to which the application demonstrates a sound understanding of the critical issues and research needs in child care. This should include particular emphasis on the issues addressed by the proposed study.

The extent to which the application provides a literature review that is current and comprehensive, identifies other research that has addressed similar issues, and supports the need for the proposed study. Describes how the proposed study will help address gaps in the research literature and unanswered questions.

The extent to which the conceptual model, objectives and hypotheses are: (a) Well formulated and appropriately linked; (b) reflect the Bureau's research agenda and goals; and (c) will contribute new knowledge to the field.

The extent to which the application describes a project framework that is appropriate, feasible and contributes to the importance, comprehensiveness, and quality of the proposed research.

Criterion 3: Approach—Management Plan (25 Point Maximum)

The extent to which the application includes a management plan that (a) presents a sound framework for maintaining quality control over the implementation and ongoing operations of the study; (b) demonstrates how the applicant will gain access to necessary organizations, participants, and data sources; (c) provides evidence that the applicant and its partners, if any, have the expertise, resources and commitment to solve problems that may arise in carrying out the project; and (d) provides detailed project management charts showing tasks and sub tasks, milestones, staff allocation, and costs.

The extent to which (a) the scope of the project is reasonable for the funds available and feasible for the project time frame; (b) includes an effective plan for the dissemination and utilization of information by researchers, policy-makers, and practitioners in the field; and (c) includes assurances and plans for working with the Child Care Bureau's Child Care Research Collaboration and Archive to archive final data sets, reports, and other research products.

Criterion 4: Organizational Profile (10 Point Maximum)

The extent to which the application: (a) Demonstrates organizational competence and expertise in the areas addressed by the proposed research, including relevant background, experience, and training on related research or similar projects; (b) demonstrates expertise in research design, sampling, field work, data processing, statistical analysis, reporting, and information dissemination to academic and policy communities; (c) demonstrates an understanding of the child care subsidy system and the child care needs of low-income families.

The extent to which the application: (a) Provides evidence of an effective organizational structure and collaborative relationships, if appropriate; (b) provides evidence that the project will be effectively managed by the lead organization to ensure that all participants in the study operate as a cohesive research team; (c) includes a detailed organizational chart showing relationships and responsibilities of participating organizations; (d) demonstrates and documents specific organizational and staff experience in developing, implementing, and maintaining a research project of the nature and scope proposed; and (e) provides information on the skills, experience, and capabilities of the project director and key project staff including the principal investigators and other key staff at each site.

The extent to which the application describes the management plan for achieving the objectives of the proposed project on time and within budget, including clearly defined responsibilities, timelines, and milestones for accomplishing project tasks and ensuring quality.

Criterion 5: Budget (10 Points)

The extent to which the proposed project costs are reasonable and justified in terms of scope, approach, staff time commitment, and anticipated results. Refers to the budget information presented on Standard Forms 424 and 424 A and the applicant's budget justification.

The extent to which the application describes the fiscal control and accounting procedures that will be used to ensure prudent use, proper and timely disbursement, and accurate accounting of funds received under this announcement.

3. Review and Selection Process

Initial Screening for Eligibility and Conformance

Review and Selection Process: Each application will undergo an eligibility and conformance review by Federal Child Care Bureau staff. Applications that pass the eligibility and conformance review will be evaluated on a competitive basis according to the specified evaluation criteria.

Competitive Review Process

The competitive review will be conducted in the Washington, DC metropolitan area by panels of Federal and non-Federal experts knowledgeable in the areas of literacy, early learning, child care, early childhood education, and other relevant program areas.

Application review panels will assign a score to each application and identify its strengths and weaknesses.

Application Consideration and Selection

The Child Care Bureau will conduct an administrative review of the applications and results of the competitive review panels and make recommendations for funding to the Commissioner, ACYF.

Subject to the recommendation of the Child Care Bureau's Associate Commissioner, the Commissioner, ACYF, will make the final selection of the applications to be funded. Application may be funded in whole or in part depending on: (1) The ranked order of applicants resulting from the competitive review; (2) staff review and consultations; (3) the combination of projects that best meets the Bureau's objectives; (4) the funds available; and (6) other relevant considerations. The Commissioner may also elect not to fund any applicants with known management, fiscal, reporting, program, or other problems that make it unlikely they would be able to provide effective services.

Approved but Unfunded Applications

In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in the later competition.

VI. Award Administration Information

1. Award Notices

Successful applicants will be notified through the issuance of a Financial Assistance Award document, which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Conference Attendance. The grantee must attend and present a poster at the Annual Meeting of the Child Care Policy Research Consortium each year of the grant. This conference is typically scheduled during the spring. In addition, the applicant may be asked to attend and present at the annual State Administrators' Meeting typically held each summer in Washington, DC. The budget should reflect travel funds for both conferences. Grantees with graduate students are encouraged to bring at least one student to these meetings.

Archiving and Publishing. The grantee must agree to archive final data sets, reports and other research products with the Child Care Research and Collaboration Archive (CCRCA).

45 CFR part 74 and 45 CFR part 92.

3. Special Terms and Conditions of Award

None.

4. Reporting Requirements

Programmatic Reports: Semi-annually and a final report is due 90 days after the end of the grant period.

Financial Reports: Semi-annually and a final report due 90 days after the end of the grant period.

VII. Agency Contacts

Program Office Contacts:

Dr. Ivelisse Martinez-Beck, Program Area Manager, 330 C Street, SW., Room 2046, Washington, DC 20447; (202) 690-7885, imartinez-beck@acf.hhs.gov.

Ms. Karen Tvedt, Director, Policy and Research Division, 330 C Street, SW., Room 2046, Washington, DC 20447; (202) 401-5130, ktvedt@acf.hhs.gov.

Grants Management Office Contact: William Wilson, Grants Officer, 330 C Street, SW., Room 2070, Washington, DC 20447; (202) 205-8913, wwilson@acf.hhs.gov.

VIII. Other Information

None.

Dated: May 18, 2004.
Joan E. Ohl,
Commissioner, Administration on Children, Youth and Families.

[FR Doc. 04-11816 Filed 5-24-04; 8:45 am]

BILLING CODE 4184-01-P